DEPARTMENT OF ENERGY

Federal Energy Regulatory Commission

[Docket Nos. ER98-3760-005; EC96-19-053; ER96-1663-056]

California Independent System Operator Corporation; Notice of Filing

June 15, 2000.

Take notice that on May 26, 2000, the California Independent System Operator Corporation (ISO), tendered for filing an Answer in the above-referenced dockets. The Answer includes ISO Tariff sheets correcting several errors in the Tariff sheets submitted by the ISO as part of its compliance filing made in the above-referenced dockets on April 20, 2000.

The ISO states that this filing has been served upon all parties on the restricted service list compiled by the Secretary in the above-referenced proceeding.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before June 26, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-15567 Filed 6-20-00; 8:45 am]

BILLING CODE 6717-01-M